DEPARTMENT OF TRANSPORTATION

Federal Transit Administration

Transfer of Federally Assisted Land or Facility

AGENCY: Federal Transit Administration (FTA), DOT.

ACTION: Notice of intent to transfer federally assisted land or facility.

SUMMARY: The Federal Transit Administration (FTA) is issuing this notice to inform other Federal agencies that FTA intends to authorize Pierce Transit to convey certain property in Gig Harbor, Washington (Property) to the City of Gig Harbor to use as a community service facility if no Federal agency expresses an interest in acquiring the Property for a Federal government use.

DATES: Any Federal agency interested in acquiring the facility must notify the FTA Region 10 office of its interest no later than February 23, 2018.

ADDRESSES: Federal agencies should notify the FTA Region 10 office of their interest by writing to Regional Administrator Linda Gehrke, Federal Transit Administration, 915 2nd Avenue, Suite 3142, Seattle, WA 98314.

FOR FURTHER INFORMATION CONTACT: Francis Eugenio, Regional Counsel, at (206) 220-7515 or francis.eugenio@dot.gov.

SUPPLEMENTARY INFORMATION:

Background

If a recipient of Federal assistance under 49 U.S.C. Chapter 53 decides that an asset acquired at least in part with that assistance is no longer needed for a transit purpose, the Secretary of Transportation may authorize the recipient to transfer the asset to a local governmental authority to be used for a public purpose with no further obligation to the Federal Government if (A) the asset will remain in public use for at least 5 years after the date the asset is transferred; (B) there is no purpose eligible for assistance under chapter 53 for which the asset should be used; (C) the overall benefit of allowing the transfer is greater than the interest of the Government in liquidation and return of the financial interest of the Government in the asset, after considering fair market value and other factors; and (D) through an appropriate screening or survey process, that there is no interest in acquiring the asset for Government use if the asset is a facility or land. 49 U.S.C. 5334(h)(1). 49 U.S.C. 5334(h)(1). If the asset is a facility or land, the Secretary may authorize a transfer for a public purpose other than public transportation only if the Secretary determines, through an appropriate screening or survey process, that no Federal agency has an interest in acquiring the asset for a government use. 49 U.S.C. 5334(h)(1)(D).

The Property

The Property is comprised of two parcels of land located at (1) 3607 Hunt Street NW, Gig Harbor, WA (Pierce County Assessor's Parcel 0221083054), a site containing an area of 23,100 square feet; and (2) 3611 Hunt Street NW, Gig Harbor, WA (Pierce County Assessor's Parcel 0221083032), a site containing an area of 20,909 square feet. The two parcels total 1.01 acres and each has a single-family residence that had been converted to small business use prior to acquisition by Pierce Transit. The zoning is B-2, General Business District. The Property is adjacent to SR 16 and the site is located at a dead end of Hunt Street. The highest and best use of these parcels was identified as demolition of the existing structures and redevelopment of the sites with low intensity uses that utilize private septic systems. The site lacks sewer service. The nearest sewer line is located approximately 3,300 feet away. The lack of sewer at the site results in significant limitations to its future use.

Pierce Transit purchased both properties in 2006 for a park and ride lot, but the project was canceled in 2009. 3607 Hunt Street NW was acquired for $345,000, and 3611 Hunt Street NW was acquired for $500,000. Both parcels have depreciated significantly in value. The City of Gig Harbor proposes to use the property for a community service facility.

Federal Interest in Acquiring the Property

FTA has determined that the proposed transfer from Pierce Transit to the City of Gig Harbor otherwise satisfies the requirements of 49 U.S.C. 5334(h)(1). This notice serves as an appropriate screening or survey process to determine whether a Federal agency has an interest in acquiring the Property for Federal government use. Any Federal agency interested in acquiring the Property should notify FTA as described above.

Linda Gehrke,
Regional Administrator, FTA Region 10.

[FR Doc. 2018-01261 Filed 1-23-18; 8:45 am]

BILLING CODE P